DEPARTMENT OF TRANSPORTATION

Federal Highway Administration

Environmental Impact Statement: South Kohala, HI

AGENCY: Federal Highway Administration (FHWA), DOT.

ACTION: Notice of Intent.

SUMMARY: The FHWA is issuing this notice to advise the public that an Environmental Impact Statement (EIS) will be prepared for a proposed highway project in South Kohala, Hawaii.

FOR FURTHER INFORMATION CONTACT: Mr. Abraham Wong, Hawaii Division Administrator, Federal Highway Administration, Office Address: 300 Ala Moana Blvd., Room 3-306, Honolulu, Hawaii 96813, Mailing Address: Box 50206, Honolulu, Hawaii 96850, Telephone: (808) 541-2700.

SUPPLEMENTARY INFORMATION: The FHWA in cooperation with the State of Hawaii, Department of Transportation, Highways Division, will prepare an Environmental Impact Statement (EIS) for a new highway from Waimea Town to Kawaihae Harbor. The project will provide improved highway, approximately 14 miles in length, which will facilitate the movement of goods and people between Central and West Hawaii. The new highway would also be supportive of anticipated heavier traffic demands and special needs, including the movement of military and commercial truck traffic.

In addition to several highway alignments, the project will analyze various other alternatives, including: (1) no action and (2) transportation system management strategies.

A letter describing the proposed action and soliciting comments has been sent to appropriate Federal, State and local agencies, and to private organizations and individuals, who have expressed an interest in this project. Several interagency and public scoping meetings will soon be scheduled. A public hearing will be held after publication of the project's draft EIS; public notice will be given of the time and place of the hearing. In addition, the draft EIS will be available for public and agency review and comment prior to the public hearing.

To ensure that the full range of issues related to this proposed action are addressed and all significant issues identified, comments and suggestions are invited from all interested parties. Comments or questions concerning this proposed action and the EIS should be directed to the FHWA at the above address.

(Catalog of Federal Domestic Assistance Program Number 20.205, Highway Planning and Construction. The regulations implementing Executive Order 12372 regarding intergovernmental consultation on Federal programs and activities apply to this program.)
Issued on: November 12, 2002.
Abraham Wong,
Division Administrator, Hawaii.

[FR Doc. 02-30270 Filed 11-27-02; 8:45 am]

BILLING CODE 4910-22-M